DEPARTMENT OF TRANSPORTATION

Federal Aviation Administration

Public Notice for Waiver of Aeronautical Land-Use Assurance; Jackson Municipal Airport, Jackson, MN

AGENCY: Federal Aviation Administration, DOT.

ACTION: Notice of intent of waiver with respect to land.

SUMMARY: The Federal Aviation Administration (FAA) is considering a proposal to authorize the release of 18 acres of the airport property at the Jackson Municipal Airport, Jackson MN. The City is proposing a land swap to exchange this 18 acre parcel for another parcel of 24.72 acres.

The acreage being released is not needed for aeronautical use as currently identified on the Airport Layout Plan.

The acreage comprising this parcel was originally acquired in 1976 with an Airport Development Aid Program (ADAP) grant (76-5-27-0045-01). In exchange for the 18 acres the airport will receive a new parcel of land in the approach to the crosswind runway 4/22. The appraised fair market value of the proposed release parcel is $130,500, the fair market value of the proposed acquire parcel is $165,000. The FAA approved a Categorical Exclusion for environmental requirements on May 13, 2010. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before April 25, 2012.

ADDRESSES: Ms. Sandra E. DePottey, Program Manager, Federal Aviation Administration, Airports District Office, 6020 28th Avenue South, Room 102, Minneapolis, MN 55450-2706. Telephone Number (612) 253-4642/FAX Number (612) 253-4611. Documents reflecting this FAA action may be reviewed at this same location or at the Minnesota Department of Transportation, 222 East Plato Blvd., St. Paul, MN 55107.

FOR FURTHER INFORMATION CONTACT: Ms. Sandra E. DePottey, Program Manager, Federal Aviation Administration, Airports District Office, 6020 28th Avenue South, Room 102, Minneapolis, MN 55450-2706. Telephone Number (612) 253-4642/FAX Number (612) 253-4611. Documents reflecting this FAA action may be reviewed at this same location or at the Minnesota Department of Transportation, 222 East Plato Blvd., St. Paul, MN 55107.

SUPPLEMENTARY INFORMATION: Following is a description of the subject airport property to be released at Jackson Municipal Airport in Jackson, Minnesota and described as follows:

A parcel of land located in the westerly 18.00 acres of that part of the North Half of the Northeast Quarter (N1/2NE1/4) of Section 13, Township 102 North, Range 35 West.

Said parcel subject to all easements, restrictions, and reservations of record.

Issued in Minneapolis, MN, on January 30, 2012.
Steven J. Obenauer,
Manager, Minneapolis Airports District Office, FAA, Great Lakes Region.

[FR Doc. 2012-7233 Filed 3-23-12; 8:45 am]

BILLING CODE 4910-13-P